DEPARTMENT OF THE INTERIOR

Bureau of Land Management

[NV-910-07-1990-EX]

Notice of Intent To Prepare a Supplemental Environmental Impact Statement Updating Cumulative Effects Analysis for the Newmont Mining Corporation Leeville Project, Nevada

AGENCY: Bureau of Land Management, Interior.

ACTION: Notice of Intent (NOI).

SUMMARY: In accordance with section 102(2)(c) of the National Environmental Policy Act of 1969 and 43 CFR part 3809, the Bureau of Land Management (BLM), Elko Field Office will be preparing a Supplemental Environmental Impact Statement (SEIS) to update the cumulative effects analysis for Newmont Mining Corporation's Leeville gold mine in Elko County, Nevada. The project was authorized in 2002.

DATES: Public comments must be received in the Elko Field Office within 21 days after publication of this NOI in the Federal Register.

ADDRESSES: You may submit comments by any of the following methods:

—Fax: (775) 753-0255

—Mail: Send to the attention of the Leeville Project Manager, BLM Elko Field Office, 3900 East Idaho Street, Elko, NV 89801

FOR FURTHER INFORMATION CONTACT: Deb McFarlane, Project Manager at the Elko Field Office, 3900 E. Idaho Street, Elko, NV 89801. Telephone: (775) 753-0200.

SUPPLEMENTARY INFORMATION: The BLM signed a Record of Decision (ROD) for Newmont Mining Corporation's Leeville Project, an underground gold mine located on the Carlin Trend in northeastern Nevada, on September 25, 2002. The Leeville Mine includes three main ore bodies located approximately 2,500 feet below ground surface. Newmont is authorized to construct ancillary mine facilities, including construction of five shafts to access the ore bodies, shaft hoists, waste rock disposal facility, refractory ore stockpiles, facilities to support mine dewatering, and facilities to support backfill operations. Surface disturbance totals 486 acres. Four years of legal review resulted in the United States Court of Appeals for the Ninth Circuit partially reversing the ROD. In response, the BLM will review and update the cumulative effects analyzed in Chapter 4 of the 2002 EIS and issue an SEIS along with a new ROD. The BLM is asking the public for information on any new or proposed projects within the cumulative effects areas which could contribute cumulative effects. We are also asking the public to review the cumulative effects areas as defined in the 2002 Leeville EIS. This EIS can be reviewed on or downloaded from the Elko BLM's Web page, http://www.nv.blm.gov/elko.

Comments, including names and street addresses of respondents, will be available for public review at the above address during regular business hours 7:30 a.m. to 4:30 p.m., Monday through Friday, except holidays, and may be published as part of the SEIS. Before including your address, phone number, e-mail address, or other personal identifying information in your comment, you should be aware that your entire comment—including your personal identifying information—may be made publicly available at any time. While you can ask us in your comment to withhold your personal identifying information from public review, we cannot guarantee that we will be able to do so.

Dated: January 17, 2007.
Danielle Yroz,
Associate Field Manager.

[FR Doc. E7-4071 Filed 3-6-07; 8:45 am]

BILLING CODE 4310-HC-P